DEPARTMENT OF TRANSPORTATION

National Highway Traffic Safety Administration

[Docket No. NHTSA-2002-11846; Notice 2]

Decision That Nonconforming 2001-2002 Mercedes Benz SL (R230 Body) Passenger Cars Are Eligible for Importation

AGENCY: National Highway Traffic Safety Administration (NHTSA), DOT.

ACTION: Notice of decision by NHTSA that nonconforming 2001-2002 Mercedes Benz SL (R230 Body) passenger cars are eligible for importation.

SUMMARY: This notice announces the decision by NHTSA that 2001-2002 Mercedes Benz SL (R230 Body) passenger cars not originally manufactured to comply with all applicable Federal motor vehicle safety standards are eligible for importation into the United States because they have safety features that comply with, or are capable of being altered to comply with, all applicable Federal motor vehicle safety standards.

DATE: This decision is effective as of the date of its publication in the Federal Register.

FOR FURTHER INFORMATION CONTACT: Luke Loy, Office of Vehicle Safety Compliance, NHTSA (202-366-5308).

SUPPLEMENTARY INFORMATION:

Background

Under 49 U.S.C. 30141(a)(1)(A), a motor vehicle that was not originally manufactured to conform to all applicable Federal motor vehicle safety standards (“FMVSS”) shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC, of Baltimore, MD, (“J.K.”) (Registered Importer 90-006) petitioned NHTSA to decide whether 2001-2002 Mercedes Benz SL (R230 Body) passenger cars are eligible for importation into the United States. NHTSA published notice of the petition on May 1, 2002 (67 FR 21797), to afford an opportunity for public comment. The reader is referred to that notice for a thorough description of the petition.

One comment was received in response to the notice of the petition, from U.S. Conformance of Jupiter, Florida, another registered importer (Registered Importer 00-214). This comment addressed issues that U.S. Conformance believed J.K. overlooked in describing alterations necessary to conform non-U.S. certified 2001-2002 Mercedes Benz SL (R230 Body) passenger cars to Federal Motor Vehicle Safety Standard Nos. 108 Lamps, Reflective Devices, and Associated Equipment and 301 Fuel System Integrity, and with the Federal Bumper Standard found in 49 CFR part 581. The agency accorded J.K. an opportunity to respond to the issues raised in this comment. The statements in the petition regarding these standards, U.S. Conformance's comments, and J.K.”s responses are set forth below.

Standard No. 108

The petition stated that the vehicles are capable of being readily altered to meet this standard by: (a) Installation of U.S.-model headlamps and front sidemarker lamps, and (b) installation of U.S.-model taillamp assemblies that incorporate rear sidemarker lamps.

U.S. Conformance stated that it determined, upon physical inspection of one of the vehicles in question, that the rear taillamp assemblies are capable of being modified to meet the standard. The comment noted that the required reflective materials for red side marker lamps are in all taillamp assemblies manufactured for these vehicles. The comment further noted that one additional light source can be added to the appropriate spot in each taillamp assembly to bring the assembly into compliance with the standard, eliminating the need for replacement of the assembly.

In its response, J.K. stood by the statement in its petition. J.K. stated that it had no idea whether the modifications proposed by U.S. Conformance would in fact conform the vehicles to the standard. J.K. noted, however, that those modifications would activate several warning systems if the wiring is not correct.

Standard No. 301

The petition stated that that non-U.S. certified 2001-2002 Mercedes Benz SL (Body 230) passenger cars are identical to their U.S. certified counterparts with respect to compliance with this standard.

U.S. Conformance expressed disagreement with this claim. The comment noted that after careful inspection, U.S. Conformance has determined that the fuel tank and related evaporative emission devices are not OBD2 compliant. The comment asserted that both systems must be able to trigger a “check engine” light in the event that a leak develops in either system, and do not have the capacity to do so. The comment expressed the belief that the fuel tank and evaporative emissions canister must be replaced with U.S.-model components.

J.K. responded that the modification identified by U.S. Conformance concern matters of E.P.A. compliance, but have no bearing on the conformity of the vehicles with applicable FMVSS.

Part 581 Bumper Standard

The petition stated that the vehicles, as originally manufactured, comply with the Bumper Standard.

U.S. Conformance stated that its physical inspection revealed that the front and rear bumper reinforcements do not extend to the corners of the chassis on either the driver's or the passenger's side. U.S. Conformance further stated that in its experience, some manner of reinforcement is required past the bumper corner and must continue longitudinally for a minimum of three inches. As a consequence, the comment asserted that without those reinforcements, the Mercedes Benz SL (R230 Body) is incapable of meeting the corner impact test requirements of the standard.

J.K. responded that the bumper systems of the European-model Mercedes Benz SL (R230 Body) are identical to those of the U.S.-certified model. J.K. submitted photographs of both components to verify this statement.

NHTSA believes that J.K. has adequately addressed each of the issues that U.S. Conformance has raised. The agency has been advised by representatives of DaimlerChrysler, the vehicle's manufacturer, that the Mercedes Benz SL (R230 Body) was first offered for sale in the United States in March 2002 as a model year 2003 vehicle. Since there were no substantially similar U.S.-certified versions of the vehicle in model years 2001 and 2002, J.K. should have petitioned the agency to determine the vehicle's eligibility for importation pursuant to 49 U.S.C. 30141(a)(1)(B). As previously noted, that section permits a nonconforming motor vehicle to be admitted into the United States if its safety features comply with, or are capable of being altered to comply with, all applicable FMVSS based on destructive test or such other evidence as NHTSA decides to be adequate. In this instance, the fact that there is a U.S.-certified counterpart for the 2003 model Mercedes Benz SL (R230 Body) has led the agency to conclude that non-U.S. certified models built in 2001 and 2002 have safety features that comply with, or are capable of being altered to comply with, all applicable FMVSS. In light of this circumstance, the agency has decided to grant the petition under 49 U.S.C. 30141(a)(1)(B).

Vehicle Eligibility Number for Subject Vehicles

The importer of a vehicle admissible under any final decision must indicate on the form HS-7 accompanying entry the appropriate vehicle eligibility number indicating that the vehicle is eligible for entry. VCP-19 is the vehicle eligibility number assigned to vehicles admissible under this notice of final decision.

Final Decision

Accordingly, on the basis of the foregoing, NHTSA hereby decides that 2001-2002 Mercedes Benz SL (R230 Body) passenger cars that were not originally manufactured to comply with all applicable Federal motor vehicle safety standards are eligible for importation into the United States because they have safety features that comply with, or are capable of being altered to comply with, all applicable Federal motor vehicle safety standards.

Authority: 49 U.S.C. 30141(a)(1)(B) and (b)(1); 49 CFR 593.8; delegations of authority at 49 CFR 1.50 and 501.8.

Issued on: November 7, 2002.
Marilynne Jacobs,
Director, Office of Vehicle Safety Compliance.

[FR Doc. 02-28822 Filed 11-12-02; 8:45 am]

BILLING CODE 4910-59-P